DEPARTMENT OF EDUCATION

Notice of Proposed Information Collection Requests

AGENCY: Department of Education.

ACTION: Notice of Proposed Information Collection Requests.

SUMMARY: The Acting Director, Information Collection Clearance Division, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by February 5, 2010. A regular clearance process is also beginning. Interested persons are invited to submit comments on or before March 23, 2010.

ADDRESSES: Written comments regarding the emergency review should be addressed to the Office of Information and Regulatory Affairs, Attention: Education Desk Officer, Office of Management and Budget; 725 17th Street, NW., Room 10222, New Executive Office Building, Washington, DC 20503, or by e-mail to oira_submission@omb.eop.gov or faxed to (202) 395-5806.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Director, Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: January 15, 2010.
Angela C. Arrington,
Acting Director, Information Collection Clearance Division, Regulatory Information Management Services, Office of Management.

Office of Innovation and Improvement

Type of Review: Emergency.

Title: Open Innovation Web Portal.

Abstract: The U.S. Department of Education's (ED) Office of Innovation and Improvement (OII) has developed a web-based platform, the Open Innovation Web Portal (Portal), to support communication and collaboration among a wide range of key education stakeholders, including practitioners, funders, and the general public. Once this platform goes on-line, it will allow geographically dispersed but like-minded entities to discover each other and work together to address some of the most intractable challenges in education.

OII plans to promote this platform as a tool for use with the Investing in Innovation grant program (i3), which was established as the “Innovation Fund” in the “American Recovery and Reinvestment Act of 2009” (ARRA), signed into law by the President on February 17, 2009. Since passage of ARRA, the Department has worked with all possible speed to develop the i3 program, which will conduct three separate competitions. This new program will provide $650,000,000 in competitive grants to Local Education Agencies (LEAs), non-profit organizations working in collaboration with LEAs, or non-profit organizations working in collaboration with a consortium of schools. The Department must obligate funds to i3 grantees before the end of fiscal year 2010, September 30, 2010. The Department requests emergency approval under the Paperwork Reduction Act of 1995 (PRA) of the information collection request (ICR) for the Portal so that prospective applicants to the i3 competitions may use the Portal to identify partners, find matching funding, and improve the quality of their applications.

Additional Information: Part of our intent in implementing the i3 program is to identify innovative new approaches proposed by individuals and organizations that have previously had limited experience in obtaining grants in the education sector yet have promising evidence-based ideas for improving American education. These applicants in particular face challenges in identifying schools or LEAs with which to partner given their limited experience in the field. Further, organizations without existing relationships in education may find it difficult to secure the private sector matching funds required of all grantees under ARRA. Receiving OMB's approval on an emergency basis is thus essential to launching the Portal and supporting improved student achievement through school improvement and reform, one of the primary objectives of ARRA. Failure to approve this emergency request would cause substantial harm to precisely the applicants that the i3 program hopes to entice and as a direct result would negatively impact the schools and students who would benefit most from new and improved approaches to education.

Frequency: On Occasion.

Affected Public: Business or other for-profits; Federal Government; Individuals or households; Not-for-profit-institutions; Private Sector; State, Local or Tribal Governments.

Reporting and Recordkeeping Hour Burden:

Responses: 4,850.

Burden Hours: 63,050.

Requests for copies of the proposed information collection request may be accessed from http://edicsweb.ed.gov, by selecting the “Browse Pending Collections” link and by clicking on link number 4204. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at1-800-877-8339.

[FR Doc. 2010-1199 Filed 1-21-10; 8:45 am]

BILLING CODE 4000-01-P